DEPARTMENT OF EDUCATION

[Docket No.: ED-2013-ICCD-0152]

Agency Information Collection Activities; Submission to the Office of Management and Budget for Review and Approval; Comment Request: Fast Response Survey System (FRSS) 106: School Safety and Discipline: 2013-14

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before January 17, 2014.

ADDRESSES: Comments submitted in response to this notice should be submitted electronically through the Federal eRulemaking Portal at http://www.regulations.gov by selecting Docket ID number ED-2013-ICCD-0152 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: For questions related to collection activities or burden, please call Kathy Axt, 540-776-7742 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Fast Response Survey System (FRSS) 106: School Safety and Discipline: 2013-14.

OMB Control Number: 1850-0733.

Type of Review: New collection.

Respondents/Affected Public: Individuals or households.

Total Estimated Number of Annual Responses: 12,185.

Total Estimated Number of Annual Burden Hours: 1,967.

Abstract: The National Center for Education Statistics (NCES) requests approval to conduct a Fast Response Survey System (FRSS) survey #106 on public school safety and discipline. The FRSS 106: School Safety and Discipline: 2013-14 survey is modeled after the NCES School Survey on Crime and Safety (SSOCS), modified for FRSS length and format constraints. It will provide nationally representative data on elementary and secondary school safety and discipline plans and practices, training for teachers and aides related to school safety and discipline issues, security personnel, frequency of specific discipline problems, and number of incidents of various crimes. The FRSS 106 questionnaire is comprised of selected questions that were approved for the SSOCS:2010 and 2012 questionnaires (SSOCS:2010 was fielded, while SSOCS:2012 was not fielded due to budgetary constraints). Data along with the FRSS 106 First Look report on the results will be released in the summer of 2015.

Dated: December 12, 2013.
Stephanie Valentine,
Acting Director, Information Collection Clearance Division, Privacy, Information and Records Management Services, Office of Management.

[FR Doc. 2013-30007 Filed 12-17-13; 8:45 am]

BILLING CODE 4000-01-P